Title 3—

The President

Proclamation 9276 of May 8, 2015

National Defense Transportation Day and National Transportation Week, 2015

By the President of the United States of America

A Proclamation

American infrastructure is the foundation of our economy—helping businesses move products, getting workers to the job, and ensuring families make it home to their loved ones each night. All year, we rely on our transportation networks to sustain our way of life, and on National Defense Transportation Day and during National Transportation Week, we pause to reaffirm the importance of infrastructure and the role it plays in growing our economy and keeping us safe.

Today, our Nation's investment in transportation lags behind the rest of the world. Over half of America's major roads are in less than good condition, and a quarter of our bridges require significant repair or cannot handle today's traffic, costing businesses and consumers billions in unnecessary freight expenses. Countless hours and dollars are lost navigating bad roads, making transportation costs—from wasted gas to commercial trucking costs that are passed on to the consumer—one of the biggest expenses for the average American family.

America's commitment to connect two coasts forged the Transcontinental Railroad, and our need for a robust network of roads fueled the Interstate Highway System. The United States was once a leader in infrastructure, and my Administration is dedicated to restoring this legacy by making investments that will improve the competitiveness of our economy while creating jobs and expanding opportunity for all hardworking Americans. Last year, we launched the Build America Investment Initiative to give cities and States innovative opportunities to partner with the private sector on infrastructure funding. We are continuing to advance major highway and port projects, and this year, we announced new infrastructure tax proposals that will level the playing field for municipalities seeking public-private infrastructure partnerships.

Keeping our infrastructure up-to-date is not only crucial to our economy, it is essential to our safety and security. The same roads, bridges, and ports that we depend on to carry goods to market also enable us to deliver lifesaving resources to victims during emergencies. In the face of a changing climate, resilient infrastructure that can withstand more frequent and more devastating natural disasters is more important than ever. To ensure our Nation is prepared in the face of crisis and to guarantee service members and first responders can do their jobs safely and effectively, we must continue to invest in our vital transportation networks.

In a 21st-century economy, businesses set up shop wherever they can find the best roads and bridges, the fastest rail and Internet, and the most reliable airports and power grids. This week, let us continue our work to build the best transportation systems possible and recommit to investing in our infrastructure in a way that will keep our economy growing—not just for the next few years, but for generations to come.

In recognition of the importance of our Nation's transportation infrastructure, and of the men and women who build, maintain, and utilize it, the Congress has requested, by joint resolution approved May 16, 1957, as amended (36 U.S.C. 120), that the President designate the third Friday in May of each year as “National Defense Transportation Day,” and, by joint resolution approved May 14, 1962, as amended (36 U.S.C. 133), that the week during which that Friday falls be designated as “National Transportation Week.”

NOW, THEREFORE, I, BARACK OBAMA, President of the United States of America, do hereby proclaim Friday, May 15, 2015, as National Defense Transportation Day and May 10 through May 16, 2015, as National Transportation Week. I call upon all Americans to recognize the importance of our Nation's transportation infrastructure and to acknowledge the contributions of those who build, operate, and maintain it.

IN WITNESS WHEREOF, I have hereunto set my hand this eighth day of May, in the year of our Lord two thousand fifteen, and of the Independence of the United States of America the two hundred and thirty-ninth.

[FR Doc. 2015-11675

Filed 5-12-15; 8:45 am]

Billing code 3295-F5